DEPARTMENT OF DEFENSE

Office of the Secretary

Submission for OMB Review; Comment Request

ACTION: Notice.

The Department of Defense has submitted to OMB for clearance, the following proposal for collection of information under the provisions of the Paperwork Reduction Act (44 U.S.C. chapter 35).

Title and OMB Number: Defense Federal Acquisition Regulation Supplement (DFARS) Appendix I, DoD Pilot Mentor Protégé Program Improvements; OMB Number 0704-0412.

Type of Request: Extension.

Number of Respondents: 145.

Responses per Respondent: 1.

Annual Responses: 145.

Average Burden per Response: 3 hours.

Annual Burden Hours: 435 (145 reporting hours and 290 recordkeeping hours).

Needs and Uses: The new information collection required by Appendix I, Policy and Procedures for the DoD Pilot Mentor-Protégé Program, is required by section 811 of the National Defense Authorization Act for Fiscal Year 2000 (Public Law 106-65). DoD will use the information to assess whether the purposes of the Pilot Mentor-Protégé Program have been attained and to prepare the reports to Congress required by section 811 of Public Law 106-65. DFARS Appendix I requires a protégé firm to report on its progress under a mentor-protégé agreement by concurring with or rebutting its mentor firm's year-end report. The protégé firm also must provide data on its employment, revenues, and participation in Dod contracts. The report is required annually during the protégé firm's program participation term and for two fiscal years after the expiration of the program participation term.

Affected Public: Business or Other For-Profit.

Frequency: Annually.

Respondent's Obligation: Required to Obtain or Retain Benefits.

OMB Desk Officer: Mr. Lewis W. Oleinick.

Written comments and recommendations on the proposed information collection should be sent to Mr. Oleinick at the Office of Management and Budget, Desk Officer for DoD (Acquisition), Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: May 22, 2000.
Patricia L. Toppings,
Alternate OSD Federal Register Liaison Officer, Department of Defense,

[FR Doc. 00-13287 Filed 5-25-00; 8:45 am]

BILLING CODE 5001-10-M